DEPARTMENT OF ENERGY

Federal Energy Regulatory Commission

Combined Notice of Filings #1

Take notice that the Commission received the following electric corporate filings:

Docket Numbers: EC16-135-000.

Applicants: AEP Texas Central Company, AEP Texas North Company, AEP Utilities, Inc.

Description: Application for Approval of Internal Reorganization Under Section 203 of the Federal Power Act of American Electric Power Service Corporation on behalf of AEP Texas Central Company, AEP Texas North Company and AEP Utilities, Inc.

Filed Date: 6/27/16.

Accession Number: 20160627-5226.

Comments Due: 5 p.m. ET 7/18/16.

Take notice that the Commission received the following electric rate filings:

Docket Numbers: ER11-2044-000.

Applicants: MidAmerican Energy Company.

Description: MidAmerican Energy Company submits tariff filing per 35.19a(b): Refund Report to be effective N/A.

Filed Date: 6/27/16.

Accession Number: 20160627-5321.

Comments Due: 5 p.m. ET 7/18/16.

Docket Numbers: ER15-2211-000.

Applicants: MidAmerican Energy Services, LLC.

Description: MidAmerican Energy Services, LLC submits tariff filing per 35.19a(b): Refund Report to be effective.

Filed Date: 6/27/16.

Accession Number: 20160627-5320.

Comments Due: 5 p.m. ET 7/18/16.

Docket Numbers: ER16-1335-001.

Applicants: PJM Interconnection, L.L.C.

Description: Tariff Amendment: Response to Deficiency Letter per May 27, 2016 Order in Docket No. ER16-1335-000 to be effective 6/1/2016.

Filed Date: 6/27/16.

Accession Number: 20160627-5247.

Comments Due: 5 p.m. ET 7/18/16.

Docket Numbers: ER16-1422-001.

Applicants: Public Service Company of Colorado.

Description: Compliance filing: PSCo-WAPA-Brlngtn Bndry Mtrs Agrmt 402-0.0.0 to be effective 4/16/2016.

Filed Date: 6/27/16.

Accession Number: 20160627-5159.

Comments Due: 5 p.m. ET 7/18/16.

Docket Numbers: ER16-1422-002.

Applicants: Public Service Company of Colorado.

Description: Compliance filing: PSCo-TSGT—Ft. Lupton—E&P—420—0.0.0 to be effective 4/16/2016.

Filed Date: 6/27/16.

Accession Number: 20160627-5161.

Comments Due: 5 p.m. ET 7/18/16.

Docket Numbers: ER16-1462-001.

Applicants: Palmco Power DE LLC.

Description: Tariff Amendment: Palmco Power DE FERC Electric Tariff to be effective 5/19/2016.

Filed Date: 6/27/16.

Accession Number: 20160627-5141.

Comments Due: 5 p.m. ET 7/18/16.

Docket Numbers: ER16-1464-001.

Applicants: Palmco Power ME, LLC.

Description: Tariff Amendment: Palmco Power ME FERC Electric Tariff to be effective 5/20/2016.

Filed Date: 6/27/16.

Accession Number: 20160627-5151.

Comments Due: 5 p.m. ET 7/18/16.

Docket Numbers: ER16-1465-001.

Applicants: Palmco Power MI LLC.

Description: Tariff Amendment: Palmco Power MI FERC Electric Tariff to be effective 5/20/2016.

Filed Date: 6/27/16.

Accession Number: 20160627-5148.

Comments Due: 5 p.m. ET 7/18/16.

Docket Numbers: ER16-1466-001.

Applicants: Palmco Power NH LLC.

Description: Tariff Amendment: Palmco Power NH FERC Electric Tariff to be effective 5/20/2016.

Filed Date: 6/27/16.

Accession Number: 20160627-5154.

Comments Due: 5 p.m. ET 7/18/16.

Docket Numbers: ER16-1467-001.

Applicants: Palmco Power VA LLC.

Description: Tariff Amendment: Palmco Power VA FERC Electric Tariff to be effective 5/20/2016.

Filed Date: 6/27/16.

Accession Number: 20160627-5156.

Comments Due: 5 p.m. ET 7/18/16.

Docket Numbers: ER16-1468-001.

Applicants: Palmco Power RI LLC.

Description: Tariff Amendment: Palmco Power RI FERC Electric Tariff to be effective 5/20/2016.

Filed Date: 6/27/16.

Accession Number: 20160627-5158.

Comments Due: 5 p.m. ET 7/18/16.

Docket Numbers: ER16-2024-000.

Applicants: ISO New England Inc., NSTAR Electric Company.

Description: § 205(d) Rate Filing: Original Service Agreement No. LGIA-ISONE/NSTAR-16-04 under Schedule 22 of OATT to be effective 6/14/2016.

Filed Date: 6/27/16.

Accession Number: 20160627-5172.

Comments Due: 5 p.m. ET 7/18/16.

Docket Numbers: ER16-2025-000.

Applicants: Mt. Carmel Cogen, Inc.

Description: Baseline eTariff Filing: Reactive Service Tariff to be effective 8/1/2016.

Filed Date: 6/27/16.

Accession Number: 20160627-5175.

Comments Due: 5 p.m. ET 7/18/16.

Docket Numbers: ER16-2026-000.

Applicants: Southern California Edison Company.

Description: Tariff Cancellation: Notice of Cancellation, Service Agreement No. 866 to be effective 7/13/2016.

Filed Date: 6/27/16.

Accession Number: 20160627-5183.

Comments Due: 5 p.m. ET 7/18/16.

Docket Numbers: ER16-2027-000.

Applicants: Duke Energy Carolinas, LLC.

Description: § 205(d) Rate Filing: NCMPA NITSA Amendment SA No. 212 to be effective 6/1/2016.

Filed Date: 6/27/16.

Accession Number: 20160627-5195.

Comments Due: 5 p.m. ET 7/18/16.

Docket Numbers: ER16-2028-000.

Applicants: Exelon West Medway, LLC.

Description: Baseline eTariff Filing: Rate Schedule 1—Shared Facilities Agreement to be effective 10/1/2016.

Filed Date: 6/27/16.

Accession Number: 20160627-5233.

Comments Due: 5 p.m. ET 7/18/16.

Docket Numbers: ER16-2029-000.

Applicants: Midcontinent Independent System Operator, Inc.

Description: § 205(d) Rate Filing: 2016-06-27_SA 2910 Harvest Wind-Geronimo Huron Cost Allocation Agreement to be effective 6/28/2016.

Filed Date: 6/27/16.

Accession Number: 20160627-5237.

Comments Due: 5 p.m. ET 7/18/16.

Docket Numbers: ER16-2030-000.

Applicants: Southwest Power Pool, Inc.

Description: § 205(d) Rate Filing: 1166R28 Oklahoma Municipal Power Authority NITSA and NOA to be effective 6/1/2016.

Filed Date: 6/27/16.

Accession Number: 20160627-5242.

Comments Due: 5 p.m. ET 7/18/16.

Docket Numbers: ER16-2031-000.

Applicants: Tampa Electric Company.

Description: § 205(d) Rate Filing: Revisions to Short-Form MBR Tariff to be effective 7/1/2016.

Filed Date: 6/27/16.

Accession Number: 20160627-5254.

Comments Due: 5 p.m. ET 7/18/16.

Docket Numbers: ER16-2032-000.

Applicants: Greenleaf Energy Unit 1 LLC.

Description: § 205(d) Rate Filing: Tariff Amendment to be effective 6/28/2016.

Filed Date: 6/27/16.

Accession Number: 20160627-5261.

Comments Due: 5 p.m. ET 7/18/16.

Docket Numbers: ER16-2033-000.

Applicants: Pacific Gas and Electric Company.

Description: § 205(d) Rate Filing: Amendment to BART NITSA (Warm Springs Station) to be effective 8/29/2016.

Filed Date: 6/27/16.

Accession Number: 20160627-5262.

Comments Due: 5 p.m. ET 7/18/16.

Docket Numbers: ER16-2034-000.

Applicants: Entergy Louisiana, LLC.

Description: § 205(d) Rate Filing: ELL-SRMPA 10th Extension of Interim Agreement to be effective 7/1/2016.

Filed Date: 6/27/16.

Accession Number: 20160627-5265.

Comments Due: 5 p.m. ET 7/18/16.

Docket Numbers: ER16-2035-000.

Applicants: Black Oak Wind, LLC.

Description: Baseline eTariff Filing: Black Oak Wind, LLC Petition for Order Accepting Market-Based Rate Tariff to be effective 9/1/2016.

Filed Date: 6/27/16.

Accession Number: 20160627-5269.

Comments Due: 5 p.m. ET 7/18/16.

Docket Numbers: ER16-2036-000.

Applicants: Southwest Power Pool, Inc.

Description: § 205(d) Rate Filing: 2562R4 Kansas Municipal Energy Agency NITSA and NOA to be effective 9/1/2016.

Filed Date: 6/28/16.

Accession Number: 20160628-5069.

Comments Due: 5 p.m. ET 7/19/16.

Docket Numbers: ER16-2037-000.

Applicants: Southwest Power Pool, Inc.

Description: § 205(d) Rate Filing: 2415R5 Kansas Municipal Energy Agency NITSA and NOA to be effective 9/1/2016.

Filed Date: 6/28/16.

Accession Number: 20160628-5075.

Comments Due: 5 p.m. ET 7/19/16.

Docket Numbers: ER16-2038-000.

Applicants: Public Service Company of Colorado.

Description: § 205(d) Rate Filing: 20160628_CSU Update Record to be effective 1/1/2015.

Filed Date: 6/28/16.

Accession Number: 20160628-5093.

Comments Due: 5 p.m. ET 7/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2016.
Nathaniel J. Davis, Sr.,
Deputy Secretary.

[FR Doc. 2016-15872 Filed 7-5-16; 8:45 am]

BILLING CODE 6717-01-P